DEPARTMENT OF THE INTERIOR

Bureau of Land Management

[LLIDI00000.L111000000.DF0000 LXSS024D0000 241A 4500129292]

Notice of Public Meeting, Idaho Falls District Resource Advisory Council Meeting

AGENCY: Bureau of Land Management, Interior.

ACTION: Notice of public meeting.

SUMMARY: In accordance with the Federal Land Policy and Management Act and the Federal Advisory Committee Act of 1972, the U.S. Department of the Interior, Bureau of Land Management (BLM) Idaho Falls District Resource Advisory Council (RAC), will meet as indicated below.

DATES: The RAC will meet in Idaho Falls, Idaho, January 15-16, 2019.

ADDRESSES: The Idaho Falls District RAC will meet January 15-16 at the BLM Idaho Falls District office located at 1405 Hollipark Drive, Idaho Falls, Idaho 83401. On January 15, the new member orientation will begin at 9:00 a.m. The entire RAC will convene at 1:00 p.m. and adjourn around 4:30 p.m. On January 16, the RAC will convene at 8:30 a.m. and adjourn around 2:30 p.m. The public comment period will be from 2:00-2:30 p.m. The BLM welcomes members of the public to attend the RAC meeting.

FOR FURTHER INFORMATION CONTACT: Sarah Wheeler, RAC Coordinator, Idaho Falls District, 1405 Hollipark Dr., Idaho Falls, ID 83401. Telephone: (208) 524-7550. Email: sawheeler@blm.gov. Persons who use a telecommunications device for the deaf may contact Ms. Wheeler by calling the Federal Relay Service (FRS) at (800) 877-8339. The FRS is available 24 hours a day, 7 days a week, to leave a message or question with Ms. Wheeler. You will receive a reply during normal business hours.

SUPPLEMENTARY INFORMATION: The 15-member Council advises the Secretary of the Interior, through the BLM, on a variety of planning and management issues associated with public land management in the BLM Idaho Falls District, which covers eastern Idaho.

Meeting topics include a recreational fee proposal for the Jensen Cabin on the Caribou-Targhee National Forest, recreation fee increase discussion on the Upper Snake Field Office, possible recreation enhancements to Henry's Lake and a 2018 Fire Update. On Jan. 16, the group will break out into a working session to determine how the Idaho Falls District can better implement Secretary's Orders 3356 and 3366. Other topics, such as management plans for existing wilderness areas, and wild horses may be discussed if time permits.

All meetings are open to the public. The public may present written comments to the Council. Each Council meeting has time allocated for hearing public comments. Depending on the number of persons wishing to comment and time available, the time for individual oral comments may be limited. Individuals who plan to attend and need special assistance, such as sign language interpretation, tour transportation or other reasonable accommodations, should contact the BLM as provided above.

Before including your phone number, email address, or other personal identifying information in your comment, you should be aware that your entire comment—including your personal identifying information—may be made publicly available at any time. While you can ask us in your comment to withhold your personal identifying information from public review, we cannot guarantee that we will be able to do so.

Authority: 43 CFR 1784.4-2.

Sarah Wheeler,
RAC Coordinator.

[FR Doc. 2018-27035 Filed 12-12-18; 8:45 am]

BILLING CODE 4310-GG-P